DEPARTMENT OF TRANSPORTATION

Federal Aviation Administration

14 CFR Part 71

[Docket No. FAA-2010-0300; Airspace Docket No. 10-ASO-17]

Amendment of Class D Airspace; Hollywood, FL

AGENCY: Federal Aviation Administration (FAA), DOT.

ACTION: Technical amendment.

SUMMARY: This action makes a minor correction to a final rule published in the Federal Register on July 23, 1997, amending Class D airspace at North Perry Airport, Hollywood, FL.

DATES: Effective Date: 0901 UTC. May 10, 2010. The Director of the Federal Register approves this incorporation by reference action under 1 CFR part 51, subject to the annual revision of FAA Order 7400.9 and publication of conforming amendments.

FOR FURTHER INFORMATION CONTACT: Melinda Giddens, Operations Support Group, Eastern Service Center, Federal Aviation Administration, P.O. Box 20636, Atlanta, Georgia 30320; telephone (404) 305-5610.

SUPPLEMENTARY INFORMATION:

History

In a final rule published in the Federal Register July 23, 1997 (62 FR 39430) Airspace Docket 97-ASO-7, the airspace description for North Perry Airport, Hollywood, FL, incorrectly referenced the Miami, FL, Class B airspace area exclusion as Class D airspace area. This action corrects that error.

The FAAs National Aeronautical Charting Office correctly charted the Class B airspace area exclusion. Accordingly, since this is an administrative change, and does not involve a change in the dimensions or operating requirements of that airspace, notice and public procedures under 5 U.S.C. 553 (b) are unnecessary.

Lists of Subjects in 14 CFR Part 71

Airspace, Incorporation by reference, Navigation (air).

Technical Amendment

In consideration of the foregoing, the Federal Aviation Administration amends 14 CFR Part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9T, Airspace Designations and Reporting Points, signed August 27, 2009, and effective September 15, 2009, is amended as follows:

Paragraph 5000 Class D Airspace

* * * * *

ASO FL D Hollywood, FL [Amended]

Hollywood, North Perry Airport, FL

(Lat. 26°00′05″ N., long 80°14′26″ W.)

Opa Locka Airport

(Lat. 25°54′26″ N., long 80°16′48″ W.)

That airspace extending upward from the surface to and including 2,500 feet MSL within a 4-mile radius of the North Perry Airport; excluding the portion north of the north boundary of the Miami, FL, Class B airspace area and that portion south of a line connecting the 2 points of intersection with a 4.3-mile circle centered on the Opa Locka Airport. This Class D airspace area is effective during specific dates and times established in advance by a Notice to Airmen. The effective date and time will thereafter be continuously published in the Airport/Facility Directory.

Issued in College Park, Georgia, on April 1, 2010.
Barry A. Knight,
Acting Manager, Operations Support Group, Eastern Service Center, Air Traffic Organization.

[FR Doc. 2010-8014 Filed 4-8-10; 8:45 am]

BILLING CODE 4910-13-P